DEPARTMENT OF VETERANS AFFAIRS

[OMB Control No. 2900-0101]

Agency Information Collection (Eligibility Verification Reports) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

Dated: Comments must be submitted on or before January 23, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0101” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0101” in any correspondence.

SUPPLEMENTARY INFORMATION: Titles: Eligibility Verification Reports (EVR).

a. Eligibility Verification Report Instructions, VA Form 21-0510.

b. Old Law and Section 306 Eligibility Verification Report (Surviving Spouse), VA Form 21-0512S-1.

c. Old Law and Section 306 Eligibility Verification Report (Veteran), VA Form 21-0512V-1.

d. Old Law and Section 306 Eligibility Verification Report (Children Only), VA Form 21-0513-1.

e. DIC Parent's Eligibility Verification Report, VA Forms 21-0514 and 21-0514-1.

f. Improved Pension Eligibility Verification Report (Veteran With No Children), VA Forms 21-0516 and 21-0516-1.

g. Improved Pension Eligibility Verification Report (Veteran With Children), VA Forms 21-0517 and 21-0517-1.

h. Improved Pension Eligibility Verification Report (Surviving Spouse With No Children), VA Forms 21-0518 and 21-0518-1.

i. Improved Pension Eligibility Verification Report (Child or Children), VA Forms 21-0519C and 21-0519C-1.

j. Improved Pension Eligibility Verification Report (Surviving Spouse With Children), VA Forms 21-0519S and 21-0519S-1.

OMB Control Number: 2900-0101.

Type of Review: Revision of a currently approved collection.

Abstract: VA uses EVR forms to verify a claimant's continued entitlement to benefits. Claimants who applied for or receives Improved Pension or Parents' Dependency and Indemnity Compensation must promptly notify VA in writing of any changes in entitlement factors. EVRs are required annually by beneficiaries whose social security number (SSN) or whose spouse's SSN is not verified, or who has income other than Social Security. Recipients of Old Law and Section 306 Pension are no longer required to submit annual EVRs unless there is a change in their income.

An agency may not conduct or sponsor, and a person is not required to respond to a collection of information unless it displays a currently valid OMB control number. The Federal Register Notice with a 60-day comment period soliciting comments on this collection of information was published on October 2, 2014, at pages 59559-59560.

Affected Public: Individuals or households.

Estimated Annual Burden: 113,075 hours. The annual burden for VA Forms 21-0512S-1, 21-0512V-1, 21-0513-1, 21-0514, 21-0514-1, 21-0516, 21-0516-1, 21-0518, 21-0518-1, 21-0519C, and 21-0519C-1 is 98,775 and 14,300 for VA Forms 21-0517, 21-0517-1, 21-0519S, and 21-0519S-1.

Estimated Average Burden per Respondent: The estimated burden respondent for VA Forms 21-0512S-1, 21-0512V-1, 21-0513-1, 21-0514, 21-0514-1, 21-0516, 21-0516-1, 21-0518, 21-0518-1, 21-0519C, and 21-0519C-1 is 30 minutes and 40 minutes for VA Forms 21-0517, 21-0517-1, 21-0519S, and 21-0519S-1.

Frequency of Response: Annually.

Estimated Number of Respondents: 219,000. The number of respondents for VA Forms 21-0512S-1, 21-0512V-1, 21-0513-1, 21-0514, 21-0514-1, 21-0516, 21-0516-1, 21-0518, 21-0518-1, 21-0519C, and 21-0519C-1 is 197,550 and 21,450 for VA Forms 21-0517, 21-0517-1, 21-0519S, and 21-0519S-1.

Dated: December 18, 2014.
By direction of the Secretary.
Crystal Rennie,
VA Clearance Officer, Department of Veterans Affairs.

[FR Doc. 2014-30056 Filed 12-23-14; 8:45 am]

BILLING CODE 8320-01-P